FEDERAL COMMUNICATIONS COMMISSION

[OMB 3060-1166]

Information Collection Approved by the Office of Management and Budget

AGENCY: Federal Communications Commission.

ACTION: Notice.

SUMMARY: The Federal Communications Commission (FCC) has received Office of Management and Budget (OMB) approval for a revision of a currently approved public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-1166.

OMB Approval Date: October 23, 2017.

OMB Expiration Date: October 31, 2020.

Title: Section 1.21001, Participation in Competitive Bidding for Support; Section 1.21002, Prohibition of Certain Communications During the Competitive Bidding Process.

Form Number: N/A.

Number of Respondents and Responses: 750 respondents and 750 responses.

Estimated Time per Response: 1.5 hours.

Frequency of Response: On occasion reporting requirement.

Total Annual Burden: 1,125 hours.

Total Annual Cost: No cost.

Obligation To Respond: Required to obtain or retain benefits. Statutory authority for this information collection 47 U.S.C. 154, 254 and 303(r).

Nature and Extent of Confidentiality: There is no need for confidentiality. Information collected in each application for universal service support will be made available for public inspection, and the Commission is not requesting that respondents submit confidential information to the Commission as part of the pre-auction application process. Respondents seeking to have information collected on an application for universal service support withheld from public inspection may request confidential treatment of such information pursuant to section 0.459 of the Commission's rules, 47 CFR Section 0.459.

Privacy Act Impact Assessment: No impact(s).

Needs and Uses: The Commission will use the information collected under this collection to determine whether applicants are eligible to participate in auctions for Universal Service Fund support. On November 18, 2011, the Commission released an order comprehensively reforming and modernizing the universal service and intercarrier compensation systems, creating the Connect America Fund (CAF), the Connect America Mobility Fund (MF), including the Tribal Mobility Fund (TMF), and the Remote Areas Fund (RAF). To implement these reforms and conduct competitive bidding for CAF, MF, TMF, and RAF support, the Commission adopted new rules containing information collection requirements that would be used to determine whether an applicant is generally qualified to bid for universal service support. The Commission also adopted rules containing information collection requirements that would be used to determine whether an applicant is specifically qualified to bid for Phase I of the Mobility Fund and Tribal Mobility Fund.

The revised collection removes the information collection requirements that apply specifically to applicants seeking to participate in competitive bidding for Mobility Fund Phase I (MF-I) and Tribal Mobility Fund Phase I (TMF-I) support, and the associated FCC Form 180 used by entities applying to participate in the MF-I and TMF-I auctions, because support under MF-I and TMF-I has been awarded. The revised collection retains the information collection requirements that apply generally to all applicants seeking to participate in competitive bidding for universal service support. The revised collection also amends the title of the information collection to “Section 1.21001, Participation in Competitive Bidding for Support; Section 1.21002, Prohibition of Certain Communications During the Competitive Bidding Process” to reflect the revised information collection.

The Commission will use the information collected under the revised information collection to determine whether applicants are legally, technically, and financially qualified to participate in a Commission auction for universal service support. The information collection requirements retained under this collection are designed to limit the competitive bidding to qualified applicants; to deter possible abuse of the bidding process; and to enhance the use of competitive bidding to distribute Universal Service Fund (USF) support in furtherance of the public interest. Commission staff reviews the information collected as part of the pre-auction process, prior to the auction being held, and determines whether each applicant satisfies the Commission's requirements to participate in the auction. Thus, the information is being collected to meet the objectives of the USF program.

The Commission received approval from OMB for the revised information collection requirements contained in OMB 3060-1166 on October 23, 2017.

Federal Communications Commission.
Marlene H. Dortch,
Secretary, Office of the Secretary.

[FR Doc. 2017-23911 Filed 11-2-17; 8:45 am]

BILLING CODE 6712-01-P